DEPARTMENT OF COMMERCE

National Oceanic and Atmospheric Administration

[I.D. 100903F]

Pacific Fishery Management Council; Public Meeting

AGENCY: National Marine Fisheries Service (NMFS), National Oceanic and Atmospheric Administration (NOAA), Commerce.

ACTION: Notice of public meeting.

SUMMARY: The Pacific Fishery Management Council's (Council) Ad Hoc Groundfish Habitat Technical Review Committee will hold a working meeting. The meeting is open to the public.

DATES: The Ad Hoc Groundfish Habitat Technical Review Committee working meeting will begin Thursday, November 20 at 8:30 a.m. and may go into the evening until business for the day is completed. The meeting will reconvene from 8 a.m. to 5 p.m. Friday, November 21.

ADDRESSES: The meeting will be held at the U.S. Department of Commerce, NOAA, NMFS, Santa Cruz Laboratory, Conference Room, 110 Shaffer Road, Santa Cruz, CA 95060, Contact: Ms. Cheryl Kaine; 831-420-3933.

Council address: Pacific Fishery Management Council, 7700 NE Ambassador Place, Suite 200, Portland, OR 97220-1384; telephone: 503-820-2280.

FOR FURTHER INFORMATION CONTACT: Dr. Christopher Dahl, NEPA Specialist, Pacific Fishery Management Council, telephone: 503-820-2280, email: kit.dahl@noaa.gov.

SUPPLEMENTARY INFORMATION: The purpose of the Ad Hoc Groundfish Habitat Technical Review Committee meeting is to guide the ongoing assessment of essential fish habitat for Pacific coast groundfish. On November 20-21, the committee will review technical elements of the assessment in order to provide feedback and direction to NMFS and the Council. By holding a public meeting, the committee will provide opportunity for public participation in the assessment process. The committee will only consider technical and scientific questions related to the assessment and will not engage in policy discussions as part of its mission.

Although non-emergency issues not contained in the committee meeting agenda may come before the committee for discussion, those issues may not be the subject of formal committee action during thee meetings. Ad Hoc Habitat Technical Review Committee action will be restricted to those issues specifically listed in this document and to any issues arising after publication of this document requiring emergency action under Section 305(c) of the Magnuson-Stevens Fishery Conservation and Management Act, provided the public has been notified of the committee's intent to take final action to address the emergency.

Special Accommodations

The meetings are physically accessible to people with disabilities. Requests for sign language interpretation or other auxiliary aids should be directed to Cheryl Kaine at (831) 420-3933, at least 7 days prior to the meeting date.

Dated: October 24, 2003.
Richard W. Surdi,
Acting Director, Office of Sustainable Fisheries, National Marine Fisheries Service.

[FR Doc. 03-27603 Filed 11-3-03; 8:45 am]

BILLING CODE 3510-22-S